DEPARTMENT OF TRANSPORTATION

Federal Aviation Administration

Agency Information Collection Activities: Requests for Comments; Clearance of Renewed Approval of Information Collection: Helicopter Air Ambulance Operator Reports

AGENCY: Federal Aviation Administration (FAA), DOT.

ACTION: Notice and request for comments.

SUMMARY: In accordance with the Paperwork Reduction Act of 1995, FAA invites public comments about our intention to request the Office of Management and Budget (OMB) approval to renew an information collection. The FAA Modernization and Reform Act of 2012 mandates that all helicopter air ambulance operators must begin reporting the number of flights and hours flown, along with other specified information, during which helicopters operated by the certificate holder are providing helicopter air ambulance services.

The helicopter air ambulance operational data provided to the FAA will be used by the agency as background information useful in the development of risk mitigation strategies to reduce the helicopter air ambulance accident rate, and to meet the mandates set by Congress.

DATES: Written comments should be submitted by January 2, 2018.

ADDRESSES: Send comments to the FAA at the following address: Barbara Hall, Federal Aviation Administration, ASP-110, 10101 Hillwood Parkway, Fort Worth, TX 76177.

FOR FURTHER INFORMATION CONTACT: Barbara Hall by email at: Barbara.L.Hall@faa.gov; phone: 940-594-5913.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0761.

Title: Helicopter Air Ambulance Operator Reports.

Form Numbers: Helicopter Air Ambulance Flight Information Report.

Type of Review: Renewal of an information collection.

Background: The FAA Modernization and Reform Act of 2012 (The Act) mandates that all helicopter air ambulance operators must begin reporting the number of flights and hours flown, along with other specified information, during which helicopters operated by the certificate holder were providing helicopter air ambulance services. See Public Law 112-95, Sec. 306, 49 U.S.C. 44731. The FAA Administrator had 180 days to develop a methodology to collect and store those data. The Act further mandates that not later than 2 years after the date of enactment, and annually thereafter, the Administrator shall submit to the Committee on Transportation and Infrastructure of the House of Representatives and the Committee on Commerce, Science, and Transportation of the Senate, a report containing a summary of the data collected.

The helicopter air ambulance operational data provided to the FAA will be used by the agency as background information useful in the development of risk mitigation strategies to reduce the helicopter air ambulance accident rate, and to meet the mandates set by Congress. The information requested is limited to the minimum necessary to fulfill these new reporting requirements mandated by the Act and as developed by FAA. The amount of data required to be submitted is proportional to the size of the operation.

Respondents: 65 helicopter air ambulance certificate holders.

Frequency: The information is collected annually.

Estimated Average Burden per Response: 11 hours.

Estimated Total Annual Burden: 580 hours.

Issued in Washington, DC, on October 26, 2017.
Barbara L. Hall,
FAA Information Collection Clearance Officer, Performance, Policy, and Records Management Branch, ASP-110.

[FR Doc. 2017-23892 Filed 11-2-17; 8:45 am]

BILLING CODE 4910-13-P.